DEPARTMENT OF THE INTERIOR

National Park Service

[NPS-WASO-NAGPRA-NPS0038625; PPWOCRADN0-PCU00RP14.R50000]

Notice of Inventory Completion: Museum of Texas Tech University, Lubbock, TX

AGENCY: National Park Service, Interior.

ACTION: Notice.

SUMMARY: In accordance with the Native American Graves Protection and Repatriation Act (NAGPRA), the Museum of Texas Tech University has completed an inventory of human remains and associated funerary objects and has determined that there is a cultural affiliation between the human remains and associated funerary objects and Indian Tribes or Native Hawaiian organizations in this notice.

DATES: Repatriation of the human remains and associated funerary objects in this notice may occur on or after October 3, 2024.

ADDRESSES: Dr. Eileen Johnson, Museum of Texas Tech University, 3301 4th Street, Lubbock, TX 79415, telephone (806) 742-2442, email eileen.johnson@ttu.edu. Mailing Address: Dr. Eileen Johnson, Museum of Texas Tech University, Box 43191, Lubbock, TX 79409.

SUPPLEMENTARY INFORMATION: This notice is published as part of the National Park Service's administrative responsibilities under NAGPRA. The determinations in this notice are the sole responsibility of the Museum of Texas Tech University, and additional information on the determinations in this notice, including the results of consultation, can be found in the inventory or related records. The National Park Service is not responsible for the determinations in this notice.

Abstract of Information Available

Based on the information available, human remains representing, at least, 106 individuals have been reasonably identified. The 249 associated funerary objects are: a bowl; Olivella shell beads; lithic objects; potsherds; bone tools; faunal remains; clam/mussel shell; wood; and unworked stone.

In 1930 and 1931, human skeletal remains representing at least 20 adult and juvenile individuals were unearthed under the supervision of Dr. William Curry Holden (Museum Director 1929-1969) from the Ancestral Pueblo of Tecolte (LA296) in San Miguel County, New Mexico. Accessioned by the Museum between 1930 and 1939, and in 1940. The 47 associated funerary objects are: a shaft straightener; stone drill; bifaces; lithic debris; potsherds; awls; antler punch; bone gouge or scraper; faunal remains; clam/mussel shell; wood pieces; and unworked stone.

In 1939, human skeletal remains representing at least five adult individuals were unearthed under the supervision of Dr. William Curry Holden (Museum Director 1929-1969) from the Ancestral Pueblo of Arrowhead (LA251) near Glorietta, New Mexico. Accessioned by the Museum in 1939 and 1940. The one associated funerary object is a non-human vertebra.

In 1950 through 1954, human skeletal remains representing at least 40 adult, juvenile, and infant individuals were unearthed under the supervision of Jane Holden Kelley (Museum employee) from the Ancestral Pueblo of Bonnell (LA612) near Glencoe, New Mexico. Accessioned by the Museum in 1950 and 1951. The 201 associated funerary objects include a Chupadero Black-on-White bowl found covering the face of a juvenile individual and 200 Olivella shell beads found around the neck of the same individual.

A human skull representing one juvenile individual was stolen from the Museum by a student worker in 1970 and returned anonymously by mail in 1994 with a hand-written note of explanation. No identifying information was present with the skull. Four juvenile burials described by Jane Holden Kelley from the Ancestral Pueblo of Bonnell have not been matched conclusively with Bonnell material. Based on the age profile of the unmatched burials from Bonnell, the overall age demographic of the human skeletal remains from Bonnell, and the age of this individual, it is highly likely that this skull is from the Bonnell Collection and may be associated with other skeletal elements in the collection.

In 1955, human skeletal remains representing at least one juvenile individual were unearthed under the supervision of Jane Holden Kelley (Museum employee) from the Ancestral Pueblo of Bonnell B near Glencoe, New Mexico. Bonnell B is directly next to the main Bonnell excavation and is described by Kelley as contemporaneous. Accessioned by the Museum in 1955. No associated funerary objects are present.

In 1955, human skeletal remains representing at least one adult individual were unearthed under the supervision of Jane Holden Kelley (Museum employee) from the Ancestral Pueblo of Turner/Phillips (LA1537) near White Oaks, New Mexico.

Additionally, human skeletal remains representing at least one juvenile individual have been identified as possibly from the Ancestral Pueblo of Turner/Phillips (LA1537). Accessioned by the Museum in 1955. No associated funerary objects are present.

In 1954, human skeletal remains representing at least 10 adult and juvenile individuals were unearthed under the supervision of Jane Holden Kelley (Museum employee) from the Ancestral Pueblo of Bloom Mound (LA2528), 14 miles southwest of Roswell, New Mexico. Kelley notes that none of the human remains from Bloom Mound were intentional burials. Most were found under collapsed roofs, in roof debris, or in room fill, often in sprawled positions, and with evidence of burning. Accessioned by the Museum in 1955. No associated funerary objects are present.

In 1954, human skeletal remains representing at least two individuals (one adult and one juvenile) were unearthed under the supervision of Jane Holden Kelley (Museum employee) from the Ancestral Pueblo of Hiner (LA176565) near Corona, New Mexico. Accessioned by the Museum in 1958. No associated funerary objects are present.

In the 1950s, human skeletal remains representing at least three individuals (one adult, one juvenile, and one infant) were unearthed under the supervision of Jane Holden Kelley (Museum employee) from Ancestral Pueblo sites along the Upper and Middle Peñasco River. The remains have been identified as coming from one of two possible sites (Site 2000 or Mayhill Site 2). Accessioned by the Museum in 1958. No associated funerary objects are present.

In 1956, human skeletal remains representing at least 18 adults, juveniles, and infants were unearthed under the supervision of Jane Holden Kelley (Museum employee) from the Ancestral Pueblo of Block Lookout (LA2112) in Lincoln County, New Mexico. Kelley noted that the site was badly looted and many human skeletal elements were found scattered around pot-holes. Only six individuals were found in-situ. Accessioned by the Museum in 1958. No associated funerary objects are present.

In the 1950, human skeletal remains representing four individuals were unearthed from various sites in the Sierra Blanca region of New Mexico under the supervision of Jane Holden Kelley (Museum employee). The human skeletal remains representing one adult, one juvenile, and two infant individuals from the Sierra Blanca Collection cannot be associated to specific sites. All the Sierra Blanca Collection sites with human remains are Ancestral Pueblos. No associated funerary objects are present.

Cultural Affiliation

Based on the information available and the results of consultation, cultural affiliation is clearly identified by the information available about the human remains and associated funerary objects described in this notice.

Determinations

The Museum of Texas Tech University has determined that:

• The human remains described in this notice represent the physical remains of 106 individuals of Native American ancestry.

• The 249 objects described in this notice are reasonably believed to have been placed intentionally with or near individual human remains at the time of death or later as part of the death rite or ceremony.

• There is a reasonable connection between the human remains and associated funerary objects described in this notice and the Hopi Tribe of Arizona; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Santo Domingo Pueblo; Ysleta del Sur Pueblo; and the Zuni Tribe of the Zuni Reservation, New Mexico.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 3, 2024. If competing requests for repatriation are received, the Museum of Texas Tech University must determine the most appropriate requestor prior to repatriation. Requests for joint repatriation of the human remains and associated funerary objects are considered a single request and not competing requests. The Museum of Texas Tech University is responsible for sending a copy of this notice to the Indian Tribes and Native Hawaiian organizations identified in this notice.

Authority: Native American Graves Protection and Repatriation Act, 25 U.S.C. 3003, and the implementing regulations, 43 CFR 10.10.

Dated: August 26, 2024.
Melanie O'Brien,
Manager, National NAGPRA Program.

[FR Doc. 2024-19680 Filed 8-30-24; 8:45 am]

BILLING CODE 4312-52-P